DEPARTMENT OF HEALTH AND HUMAN SERVICES

National Institutes of Health

Center for Scientific Review; Amended Notice of Meeting

Notice is hereby given of a change in the meeting of the Center for Scientific Review Special Emphasis Panel, June 28, 2005, 8 a.m. to June 29, 2005, 5 p.m., Holiday Inn Select, 480 King Street, Alexandria, VA 22314 which was published in the Federal Register on June 3, 2005, 70 FR 32640-32641.

The meeting will be held July 12, 2005 to July 13, 2005. The meeting time and location remain the same. The meeting is closed to the public.

Dated: June 7, 2005.
LaVerne Y. Stringfield,
Director, Office of Federal Advisory Committee Policy.

[FR Doc. 05-11905 Filed 6-15-05; 8:45 am]

BILLING CODE 4140-01-M